COMMISSION ON CIVIL RIGHTS

Sunshine Act; Meeting

AGENCY: Commission on Civil Rights.

DATE AND TIME: Friday, June 17, 2005, 9:30 a.m.

PLACE: U.S. Commission on Civil Rights, 624 9th Street, NW., Room 540, Washington, DC 20425.

STATUS:

Agenda

I. Approval of Agenda

II. Approval of Minutes of May 13, 2005 Meeting

III. Announcements

IV. Staff Director's Report

V. State Advisory Committee Issues

• State Advisory Committee Reports

• State Advisory Committee Rechartering

VI. Program Planning

• Federal Funding of Civil Rights

VII. Discussion of Future Briefings, Including:

• Stagnation of the Black Middle Class

VIII. Web site Management

IX. Future Agenda Items

FOR FURTHER INFORMATION CONTACT: Kenneth L. Marcus, Press and Communications (202) 376-7700.

Jenny Park,
Acting Deputy General Counsel.

[FR Doc. 05-11594 Filed 6-7-05; 8:45 am]

BILLING CODE 6335-O-M